ENVIRONMENTAL PROTECTION AGENCY

40 CFR Part 55

[OAR-2004-0091; FRL-9962-56-Region 9]

Outer Continental Shelf Air Regulations; Consistency Update for California

AGENCY: Environmental Protection Agency (EPA)

ACTION: Final rule.

SUMMARY: The Environmental Protection Agency (EPA) is finalizing the updates of the Outer Continental Shelf (“OCS”) Air Regulations proposed in the Federal Register on June 17, 2016 and December 12, 2016. Requirements applying to OCS sources located within 25 miles of States' seaward boundaries must be updated periodically to remain consistent with the requirements of the corresponding onshore area (“COA”), as mandated by section 328(a)(1) of the Clean Air Act, as amended in 1990 (“the Act”). The portions of the OCS air regulations that are being updated pertain to the requirements for OCS sources for which the Santa Barbara County Air Pollution Control District (“Santa Barbara County APCD”) and Ventura County Air Pollution Control District (“Ventura County APCD”) are the designated COA. The intended effect of approving the OCS requirements for the Santa Barbara County APCD and Ventura County APCD is to regulate emissions from OCS sources in accordance with the requirements onshore. The changes to the existing requirements discussed in this document will be incorporated by reference into the Code of Federal Regulations and listed in the appendix to the OCS air regulations.

DATES: This rule is effective on October 18, 2017. The incorporation by reference of certain publications listed in this rule is approved by the Director of the Federal Register as of October 18, 2017.

ADDRESSES: EPA has established docket number OAR-2004-0091 for this action. The index to the docket is available electronically at www.regulations.gov and in hard copy at EPA Region IX, 75 Hawthorne Street, San Francisco, California. While all documents in the docket are listed in the index, some information may be publicly available only at the hard copy location (e.g., copyrighted material), and some may not be publicly available in either location (e.g., CBI). To inspect the hard copy materials, please schedule an appointment during normal business hours with the contact listed in the FOR FURTHER INFORMATION CONTACT section.

FOR FURTHER INFORMATION CONTACT: Christine Vineyard, Air Division (Air-4), U.S. EPA Region 9, 75 Hawthorne Street, San Francisco, CA 94105, (415) 947-4125, vineyard.christine@epa.gov.

SUPPLEMENTARY INFORMATION: Throughout this document, the terms “we,” “us,” or “our” refer to U.S. EPA.

Organization of this document: The following outline is provided to aid in locating information in this preamble.

I. Proposed Action

II. Public Comments and EPA Responses

III. EPA Action

IV. Incorporation by Reference

V. Statutory and Executive Order Reviews

I. Proposed Action

On June 17, 2016 (81 FR 39607) and December 12, 2016 (81 FR 39607), EPA proposed to incorporate various Santa Barbara County APCD and Ventura County APCD air pollution control requirements into the OCS Air Regulations at 40 CFR part 55. We are incorporating these requirements in response to the submittal of these rules by the Districts. EPA has evaluated the proposed requirements to ensure that they are rationally related to the attainment or maintenance of federal or state ambient air quality standards or Part C of title I of the Act, that they are not designed expressly to prevent exploration and development of the OCS and that they are applicable to OCS sources. 40 CFR 55.1. EPA has also evaluated the rules to ensure that they are not arbitrary or capricious. 40 CFR 55.12(e).

Section 328(a) of the Act requires that EPA establish requirements to control air pollution from OCS sources located within 25 miles of states' seaward boundaries that are the same as onshore requirements. To comply with this statutory mandate, EPA must incorporate applicable onshore rules into part 55 as they exist onshore. This limits EPA's flexibility in deciding which requirements will be incorporated into part 55 and prevents EPA from making substantive changes to the requirements it incorporates. As a result, EPA may be incorporating rules into part 55 that do not conform to all of EPA's state implementation plan (SIP) guidance or certain requirements of the Act. Consistency updates may result in the inclusion of state or local rules or regulations into part 55, even though the same rules may ultimately be disapproved for inclusion as part of the SIP. Inclusion in the OCS rule does not imply that a rule meets the requirements of the Act for SIP approval, nor does it imply that the rule will be approved by EPA for inclusion in the SIP.

II. Public Comments and EPA Responses

EPA's proposed actions provided 30-day public comment periods. During these periods, we received no comments on the proposed actions.

III. EPA Action

No comments were submitted. Therefore, as authorized in section 328(a)(1) of the Act, 42 U.S.C. 7627, the EPA is taking final action to incorporate the proposed changes into 40 CFR part 55. Section 328(a) of the Act requires that EPA establish requirements to control air pollution from OCS sources located within 25 miles of states' seaward boundaries that are the same as onshore requirements. To comply with this statutory mandate, EPA must incorporate applicable onshore rules into Part 55 as they exist onshore.

IV. Incorporation by Reference

In this rule, the EPA is finalizing regulatory text that includes incorporation by reference. In accordance with requirements of 1 CFR 51.5, the EPA is finalizing the incorporation by reference of the Santa Barbara County APCD and Ventura County APCD requirements described in the amendments to 40 CFR part 55 set forth below. The EPA has made, and will continue to make, these documents available through www.regulations.gov and at the EPA Region IX Office (please contact the person identified in the FOR FURTHER INFORMATION CONTACT section of this preamble for more information).

V. Statutory and Executive Order Reviews

Under the Clean Air Act, the Administrator is required to establish requirements to control air pollution from OCS sources located within 25 miles of States' seaward boundaries that are the same as onshore air control requirements. To comply with this statutory mandate, EPA must incorporate applicable onshore rules into part 55 as they exist onshore. 42 U.S.C. 7627(a)(1); 40 CFR 55.12. Thus, in promulgating OCS consistency updates, EPA's role is to maintain consistency between OCS regulations and the regulations of onshore areas, provided that they meet the criteria of the Clean Air Act. Accordingly, this action simply updates the existing OCS requirements to make them consistent with requirements onshore, without the exercise of any policy discretion by EPA. For that reason, this action:

• Is not a “significant regulatory action” subject to review by the Office of Management and Budget under Executive Order 12866 (58 FR 51735, October 4, 1993);

• Is certified as not having a significant economic impact on a substantial number of small entities under the Regulatory Flexibility Act (5 U.S.C. 601 et seq.);

• Does not contain any unfunded mandate or significantly or uniquely affect small governments, as described in the Unfunded Mandates Reform Act of 1995 (Publ. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because it does not have a substantial direct effect on one or more Indian tribes, on the relationship between the Federal Government and Indian tribes, or on the distribution of power and responsibilities between the Federal Government and Indian tribes, nor does it impose substantial direct compliance costs on tribal governments, nor preempt tribal law.

Under the provisions of the Paperwork Reduction Act, 44 U.S.C. 3501 et seq., an agency may not conduct or sponsor, and a person is not required to respond to, a collection of information unless it displays a currently valid OMB control number. OMB has approved the information collection requirements contained in 40 CFR part 55 and, by extension, this update to the rules, and has assigned OMB control number 2060-0249. Notice of OMB's approval of EPA Information Collection Request (“ICR”) No. 1601.07 was published in the Federal Register on February 17, 2009 (74 FR 7432). The approval expires January 31, 2012. As EPA previously indicated (70 FR 65897-65898 (November 1, 2005)), the annual public reporting and recordkeeping burden for collection of information under 40 CFR part 55 is estimated to average 549 hours per response, using the definition of burden provided in 44 U.S.C. 3502(2).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by November 17, 2017. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2)).

List of Subjects in 40 CFR Part 55

Environmental protection, Administrative practice and procedures, Air pollution control, Hydrocarbons, Incorporation by reference, Intergovernmental relations, Nitrogen dioxide, Nitrogen oxides, Outer continental shelf, Ozone, Particulate matter, Permits, Reporting and recordkeeping requirements, Sulfur oxides.

Dated: April 20, 2017.
Alexis Strauss,
Acting Regional Administrator, Region IX.

Title 40 of the Code of Federal Regulations, Part 55, is amended as follows:

PART 55—OUTER CONTINENTAL SHELF AIR REGULATIONS

1. The authority citation for part 55 continues to read as follows:

Authority: Section 328 of the Clean Air Act (42 U.S.C. 7401 et seq.) as amended by Public Law 101-549.

2. Section 55.14 is amended by revising paragraphs (e)(3)(ii)(F) and (H) to read as follows:

§ 55.14 Requirements that apply to OCS sources located within 25 miles of States' seaward boundaries, by State.

* * * * *

(e) * * *

(3) * * *

(ii) * * *

(F) Santa Barbara County Air Pollution Control District Requirements Applicable to OCS Sources, April 2017.

* * * * *

(H) Ventura County Air Pollution Control District Requirements Applicable to OCS Sources, parts 1 and 2, April 2017.

* * * * *

3. Appendix A to part 55 is amended by revising paragraphs (b)(6) and (8) under the heading “California” to read as follows:

Appendix A to Part 55—Listing of State and Local Requirements Incorporated by Reference Into Part 55, by State

* * * * *

California

* * * * *

(b) * * *

(6) The following requirements are contained in Santa Barbara County Air Pollution Control District Requirements Applicable to OCS Sources, April 2017:

Rule 102 Definitions (Revised 08/25/16)

Rule 103 Severability (Adopted 10/23/78)

Rule 105 Applicability (Revised 08/25/16)

Rule 107 Emergencies (Adopted 04/19/01)

Rule 201 Permits Required (Revised06/19/08)

Rule 202 Exemptions to Rule 201 (Revised 08/25/16)

Rule 203 Transfer (Revised 04/17/97)

Rule 204 Applications (Revised 08/25/16)

Rule 205 Standards for Granting Permits (Revised 04/17/97)

Rule 206 Conditional Approval of Authority to Construct or Permit to Operate (Revised 10/15/91)

Rule 207 Denial of Application (Adopted 10/23/78)

Rule 210 Fees (Revised 03/17/05)

Rule 212 Emission Statements (Adopted10/20/92)

Rule 301 Circumvention (Adopted10/23/78)

Rule 302 Visible Emissions (Revised6/1981)

Rule 303 Nuisance (Adopted 10/23/78)

Rule 304 Particulate Matter-Northern Zone (Adopted 10/23/78)

Rule 305 Particulate Matter Concentration-Southern Zone (Adopted 10/23/78)

Rule 306 Dust and Fumes-Northern Zone (Adopted 10/23/78)

Rule 307 Particulate Matter Emission Weight Rate-Southern Zone (Adopted 10/23/78)

Rule 308 Incinerator Burning (Adopted10/23/78)

Rule 309 Specific Contaminants (Adopted 10/23/78)

Rule 310 Odorous Organic Sulfides (Adopted 10/23/78)

Rule 311 Sulfur Content of Fuels (Adopted 10/23/78)

Rule 312 Open Fires (Adopted 10/02/90)

Rule 316 Storage and Transfer of Gasoline (Revised 01/15/09)

Rule 317 Organic Solvents (Adopted10/23/78)

Rule 318 Vacuum Producing Devices or Systems-Southern Zone (Adopted10/23/78)

Rule 321 Solvent Cleaning Operations (Revised 06/21/12)

Rule 322 Metal Surface Coating Thinner and Reducer (Adopted 10/23/78)

Rule 323 Architectural Coatings (Revised 11/15/01)

Rule 323.1 Architectural Coatings (Adopted 06/19/14, Effective 01/01/15)

Rule 324 Disposal and Evaporation of Solvents (Adopted 10/23/78)

Rule 325 Crude Oil Production and Separation (Revised 07/19/01)

Rule 326 Storage of Reactive Organic Compound Liquids (Revised 01/18/01)

Rule 327 Organic Liquid Cargo Tank Vessel Loading (Revised 12/16/85)

Rule 328 Continuous Emission Monitoring (Adopted 10/23/78)

Rule 330 Surface Coating of Metal Parts and Products (Revised 06/21/12)

Rule 331 Fugitive Emissions Inspection and Maintenance (Revised 12/10/91)

Rule 332 Petroleum Refinery Vacuum Producing Systems, Wastewater Separators and Process Turnarounds (Adopted 06/11/79)

Rule 333 Control of Emissions from Reciprocating Internal Combustion Engines (Adopted 06/19/08)

Rule 342 Control of Oxides of Nitrogen (NOX) from Boilers, Steam Generators and Process Heaters) (Revised 04/17/97)

Rule 343 Petroleum Storage Tank Degassing (Adopted 12/14/93)

Rule 344 Petroleum Sumps, Pits, and Well Cellars (Adopted 11/10/94)

Rule 346 Loading of Organic Liquid Cargo Vessels (Revised 01/18/01)

Rule 349 Polyester Resin Operations (Revised 06/21/12)

Rule 352 Natural Gas-Fired Fan-Type Central Furnaces and Residential Water Heaters (Revised 10/20/11)

Rule 353 Adhesives and Sealants (Revised 06/21/12)

Rule 359 Flares and Thermal Oxidizers (Adopted 06/28/94)

Rule 360 Emissions of Oxides of Nitrogen from Large Water Heaters and Small Boilers (Adopted 10/17/02)

Rule 361 Small Boilers, Steam Generators, and Process Heaters (Adopted 01/17/08)

Rule 370 Potential to Emit—Limitations for Part 70 Sources (Revised 01/20/11)

Rule 505 Breakdown Conditions Sections A.,B.1, and D. only (Adopted 10/23/78)

Rule 603 Emergency Episode Plans (Adopted 06/15/81)

Rule 702 General Conformity (Adopted 10/20/94)

Rule 801 New Source Review—Definitions and General Requirements (Revised 08/25/16)

Rule 802 New Source Review (Revised 08/25/16)

Rule 804 Emission Offsets (Revised 08/25/16)

Rule 805 Air Quality Impact Analysis, Modeling, Monitoring, and Air Quality Increment Consumption (Revised 08/25/16)

Rule 806 Emission Reduction Credits (Revised 08/25/16)

Rule 808 New Source Review for Major Sources of Hazardous Air Pollutants (Adopted 05/20/99)

Rule 809 Federal Minor Source New Source Review (Revised 08/25/16)

Rule 810 Federal Prevention of Significant Deterioration (PSD) (Revised 06/20/13)

Rule 1301 Part 70 Operating Permits—General Information (Revised 08/25/16)

Rule 1302 Part 70 Operating Permits—Permit Application (Adopted 11/09/93)

Rule 1303 Part 70 Operating Permits—Permits (Revised 01/18/01)

Rule 1304 Part 70 Operating Permits—Issuance, Renewal, Modification and Reopening (Revised 01/18/01)

Rule 1305 Part 70 Operating Permits—Enforcement (Adopted 11/09/93)

* * * * *

(8) The following requirements are contained in Ventura County Air Pollution Control District Requirements Applicable to OCS Sources, parts 1 and 2, April 2017:

Rule 2 Definitions (Revised 04/12/11)

Rule 5 Effective Date (Revised 04/13/04)

Rule 6 Severability (Revised 11/21/78)

Rule 7 Boundaries (Adopted 06/14/77)

Rule 10 Permits Required (Revised 04/13/04)

Rule 11 Definition for Regulation II (Amended 03/14/06)

Rule 12 Applications for Permits (Adopted 06/13/95)

Rule 13 Action on Applications for an Authority To Construct (Adopted 06/13/95)

Rule 14 Action on Applications for a Permit To Operate (Adopted 06/13/95)

Rule 15.1 Sampling and Testing Facilities (Adopted 10/12/93)

Rule 16 BACT Certification (Adopted 06/13/95)

Rule 19 Posting of Permits (Revised 05/23/72)

Rule 20 Transfer of Permit (Revised 05/23/72)

Rule 23 Exemptions From Permits (Revised 11/12/13)

Rule 24 Source Recordkeeping, Reporting, and Emission Statements (Revised 09/15/92)

Rule 26 New Source Review—General (Amended 03/14/06)

Rule 26.1 New Source Review—Definitions (Revised 11/14/06)

Rule 26.2 New Source Review—Requirements (Revised 03/14/06)

Rule 26.3 New Source Review—Exemptions (Revised 3/14/06)

Rule 26.6 New Source Review—Calculations (Revised 3/14/06)

Rule 26.8 New Source Review—Permit To Operate (Adopted 10/22/91)

Rule 26.11 New Source Review—ERC Evaluation at Time of Use (Adopted 05/14/02)

Rule 26.12 Federal Major Modifications (Adopted 06/27/06)

Rule 26.13 New Source Review—Prevention of Significant Deterioration (PSD) (Revised 11/10/15)

Rule 28 Revocation of Permits (Revised 07/18/72)

Rule 29 Conditions on Permits (Revised 03/14/06)

Rule 30 Permit Renewal (Revised 04/13/04)

Rule 32 Breakdown Conditions: Emergency Variances, A., B.1., and D. only. (Revised 02/20/79)

Rule 33 Part 70 Permits-General (Revised 04/12/11)

Rule 33.1 Part 70 Permits—Definitions (Revised 04/12/11)

Rule 33.2 Part 70 Permits—Application Contents (Revised 04/10/01)

Rule 33.3 Part 70 Permits—Permit Content (Revised 09/12/06)

Rule 33.4 Part 70 Permits—Operational Flexibility (Revised 04/10/01)

Rule 33.5 Part 70 Permits—Timeframes for Applications, Review and Issuance (Adopted 10/12/93)

Rule 33.6 Part 70 Permits—Permit Term and Permit Reissuance (Adopted 10/12/93)

Rule 33.7 Part 70 Permits—Notification (Revised 04/10/01)

Rule 33.8 Part 70 Permits—Reopening of Permits (Adopted 10/12/93)

Rule 33.9 Part 70 Permits—Compliance Provisions (Revised 04/10/01)

Rule 33.10 Part 70 Permits—General Part 70 Permits (Adopted 10/12/93)

Rule 34 Acid Deposition Control (Adopted 03/14/95)

Rule 35 Elective Emission Limits (Revised 04/12/11)

Rule 36 New Source Review—Hazardous Air Pollutants (Adopted 10/06/98)

Rule 42 Permit Fees (Revised 04/12/16)

Rule 44 Exemption Evaluation Fee (Revised 04/08/08)

Rule 45 Plan Fees (Adopted 06/19/90)

Rule 45.2 Asbestos Removal Fees (Revised 08/04/92)

Rule 47 Source Test, Emission Monitor, and Call-Back Fees (Adopted 06/22/99)

Rule 50 Opacity (Revised 04/13/04)

Rule 52 Particulate Matter—Concentration (Grain Loading)(Revised 04/13/04)

Rule 53 Particulate Matter—Process Weight (Revised 04/13/04)

Rule 54 Sulfur Compounds (Revised 01/14/14)

Rule 56 Open Burning (Revised 11/11/03)

Rule 57 Incinerators (Revised 01/11/05)

Rule 57.1 Particulate Matter Emissions From Fuel Burning Equipment (Adopted 01/11/05)

Rule 62.7 Asbestos-Demolition and Renovation (Adopted 06/16/92, Effective 09/01/92)

Rule 63 Separation and Combination of Emissions (Revised 11/21/78)

Rule 64 Sulfur Content of Fuels (Revised 04/13/99)

Rule 68 Carbon Monoxide (Revised 04/13/04)

Rule 71 Crude Oil and Reactive Organic Compound Liquids (Revised 12/13/94)

Rule 71.1 Crude Oil Production and Separation (Revised 06/16/92)

Rule 71.2 Storage of Reactive Organic Compound Liquids (Revised 09/26/89)

Rule 71.3 Transfer of Reactive Organic Compound Liquids (Revised 06/16/92)

Rule 71.4 Petroleum Sumps, Pits, Ponds, and Well Cellars (Revised 06/08/93)

Rule 71.5 Glycol Dehydrators (Adopted 12/13/94)

Rule 72 New Source Performance Standards (NSPS) (Revised 09/9/08)

Rule 73 National Emission Standards for Hazardous Air Pollutants (NESHAPS) (Revised 09/9/08)

Rule 74 Specific Source Standards (Adopted 07/06/76)

Rule 74.1 Abrasive Blasting (Revised 11/12/91)

Rule 74.2 Architectural Coatings (Revised 01/12/10)

Rule 74.6 Surface Cleaning and Degreasing (Revised 11/11/03—effective 07/01/04)

Rule 74.6.1 Batch Loaded Vapor Degreasers (Adopted 11/11/03—effective 07/01/04)

Rule 74.7 Fugitive Emissions of Reactive Organic Compounds at Petroleum Refineries and Chemical Plants (Revised 10/10/95)

Rule 74.8 Refinery Vacuum Producing Systems, Waste-Water Separators and Process Turnarounds (Revised 07/05/83)

Rule 74.9 Stationary Internal Combustion Engines (Revised 11/08/05)

Rule 74.10 Components at Crude Oil Production Facilities and Natural Gas Production and Processing Facilities (Revised 03/10/98)

Rule 74.11 Natural Gas-Fired Residential Water Heaters—Control of NOX (Revised 05/11/10)

Rule 74.11.1 Large Water Heaters and Small Boilers (Revised 09/11/12)

Rule 74.12 Surface Coating of Metal Parts and Products (Revised 04/08/08)

Rule 74.15 Boilers, Steam Generators and Process Heaters (5 MMBTUs and greater) (Revised 11/08/94)

Rule 74.15.1 Boilers, Steam Generators and Process Heaters (1 to 5 MMBTUs) (Revised 06/23/15)

Rule 74.16 Oil Field Drilling Operations (Adopted 01/08/91)

Rule 74.20 Adhesives and Sealants (Revised 09/11/12)

Rule 74.23 Stationary Gas Turbines (Revised 1/08/02)

Rule 74.24 Marine Coating Operations (Revised 09/11/12)

Rule 74.24.1 Pleasure Craft Coating and Commercial Boatyard Operations (Revised 01/08/02)

Rule 74.26 Crude Oil Storage Tank Degassing Operations (Adopted 11/08/94)

Rule 74.27 Gasoline and ROC Liquid Storage Tank Degassing Operations (Adopted 11/08/94)

Rule 74.28 Asphalt Roofing Operations (Adopted 05/10/94)

Rule 74.30 Wood Products Coatings (Revised 06/27/06)

Rule 74.31 Metal Working Fluids and Direct-Contact Lubricants (Adopted 11/12/13)

Rule 75 Circumvention (Revised 11/27/78)

Rule 101 Sampling and Testing Facilities (Revised 05/23/72)

Rule 102 Source Tests (Revised 04/13/04)

Rule 103 Continuous Monitoring Systems (Revised 02/09/99)

Rule 154 Stage 1 Episode Actions (Adopted 09/17/91)

Rule 155 Stage 2 Episode Actions (Adopted 09/17/91)

Rule 156 Stage 3 Episode Actions (Adopted 09/17/91)

Rule 158 Source Abatement Plans (Adopted 09/17/91)

Rule 159 Traffic Abatement Procedures (Adopted 09/17/91)

Rule 220 General Conformity (Adopted 05/09/95)

Rule 230 Notice to Comply (Revised 9/9/08)

* * * * *

[FR Doc. 2017-19704 Filed 9-15-17; 8:45 am]

BILLING CODE 6560-50-P